CONSUMER PRODUCT SAFETY COMMISSION

Notification of Request for Extension of Approval of Information Collection Requirements—Recordkeeping Requirements Under the Safety Regulations for Full-Size Cribs

AGENCY: Consumer Product Safety Commission.

ACTION: Notice.

SUMMARY: In the February 12, 2007 Federal Register (72 FR 6533), the Consumer Product Safety Commission (CPSC or Commission) published a notice in accordance with provisions of the Paperwork Reduction Act of 1995 (44 U.S.C. Chapter 35) to announce the agency's intention to seek an extension of approval of information collection requirements in the safety regulations for full-size cribs. 16 CFR 1500.18(a)(13) and part 1508. Joint comments in support of the information collection were submitted by the Consumer Federation of America, Consumers Union, Kids in Danger and Keeping Babies Safe, Inc. Commentors state that the ability of the Commission to better communicate news of recalls to retailers and individuals is critical to removing potentially dangerous cribs and the continued collection of information may assist in that effort. The Commission now announces that it is submitting to the Office of Management and Budget (OMB) a request for extension of approval of that collection of information.

These regulations were issued to reduce hazards of strangulation, suffocation, pinching, bruising, laceration, and other injuries associated with full-size cribs. The regulations prescribe performance, design, and labeling requirements for full-size cribs. They also require manufacturers and importers of those products to maintain sales records for a period of three years after the manufacture or importation of full-size cribs. If any full-size cribs subject to provisions of 16 CFR 1500.18(a)(13) and part 1508 fail to comply in a manner severe enough to warrant a recall, the required records can be used by the manufacturer or importer and by the Commission to identify those persons and firms who should be notified of the recall. OMB previously approved the collection of information under control number 3041-0013. OMB's most recent extension of approval will expire on September 30, 2007.

Additional Information About the Request for Extension of Approval of Information Collection Requirements

Agency address: Consumer Product Safety Commission, 4330 East West Highway, Bethesda, MD 20814.

Title of information collection: Recordkeeping Requirements for Full-Size Baby Cribs, 16 CFR 1508.10.

Type of request: Extension of approval.

Frequency of collection: Varies, depending upon volume of products manufactured, imported, or sold.

General description of respondents: Manufacturers and importers of full-size cribs.

Estimated number of respondents: 75.

Estimated average number of responses per respondent: 1 per year.

Estimated number of responses for all respondents: 75 per year.

Estimated number of hours per response: 5.

Estimated number of hours for all respondents: 375 per year.

Estimated cost of collection for all respondents: $17,000.

Comments: Comments on this request for extension of approval of information collection requirements should be submitted by July 6, 2007 to the (1) Office of Information and Regulatory Affairs, Attn: OMB Desk Officer for CPSC, Office of Management and Budget, Washington, DC 20503; telephone: (202) 395-7340, and (2) to the Office of the Secretary by e-mail at cpsc-os@cpsc.gov, or mailed to the Office of the Secretary, Consumer Product Safety Commission, 4330 East West Highway, Bethesda, MD 20814. Comments may also be sent via facsimile at (301) 504-0127.

Copies of this request for approval of information collection requirements and supporting documentation are available from Linda Glatz, Division of Policy and Planning, Office of Information Technology and Technology Services, Consumer Product Safety Commission, 4330 East West Highway, Bethesda, MD 20814; telephone: (301) 504-7671 or by e-mail to lglatz@cpsc.gov.

Dated: May 31, 2007.
Todd A. Stevenson,
Secretary, Consumer Product Safety Commission.

[FR Doc. E7-10796 Filed 6-5-07; 8:45 am]

BILLING CODE 6355-01-P